NUCLEAR REGULATORY COMMISSION

[NRC-2015-0132]

Fire Probabilistic Risk Assessment Courses

AGENCY: Nuclear Regulatory Commission.

ACTION: Notice of public workshop.

SUMMARY: The U.S. Nuclear Regulatory Commission (NRC), Office of Nuclear Regulatory Research (RES), in cooperation with the Electric Power Research Institute (EPRI), will hold joint courses on fire probabilistic risk assessment (PRA). Since 2002, RES and EPRI, under a Memorandum of Understanding (MOU) on Cooperative Nuclear Safety Research, have been developing state-of-the-art methods for conduct of fire PRA. In September 2005, this work produced the “EPRI/NRC-RES Fire PRA Methodology for Nuclear Power Facilities,” NUREG/CR-6850 (EPRI 1011989).

DATES: Five modules will be held between July 20, 2015, and September 28, 2015. See Section II, Public Workshop, of this document for more information.

ADDRESSES: Please refer to Docket ID NRC-2015-0132 when contacting the NRC about the availability of information regarding this document. You may obtain publicly-available information related to this document using any of the following methods:

• Federal Rulemaking Web site: Go to http://www.regulations.gov and search for Docket ID NRC-2015-0132. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it available in ADAMS) is provided the first time that a document is referenced.

• NRC's PDR: You may examine and purchase copies of public documents at the NRC's PDR, Room O1-F21, One White Flint North, 11555 Rockville Pike, Rockville, Maryland 20852.

FOR FURTHER INFORMATION CONTACT: Kendra Hill, Office of Nuclear Regulatory Research; U.S. Nuclear Regulatory Commission, Washington, DC 20555-0001; telephone: 301-251-3300; email: Kendra.Hill@nrc.gov.

SUPPLEMENTARY INFORMATION:

I. Background

The courses cover the state-of-the-art methodology presented in NUREG/CR-6850 (EPRI 1011989). Training will also include discussions relating the fire PRA portion of the ASME/ANS PRA Standard to the methodology of NUREG/CR-6850 (EPRI 1011989).

Five modules cover the major technical areas of the fire PRA methodology. This year each module will be offered only one time at either the NRC or EPRI offices. Participants may attend as many modules as they wish during the year.

II. Public Workshop

Module I PRA will be held September 28-October 2, 2015, at the EPRI Office, 1300 W. W.T. Harris Boulevard, Building 3-741 A&D, Charlotte, North Carolina 28262. Module II Electrical Analysis will be held August 24-28, 2015, at the NRC, Three White Flint North, 11601 Landsdown Street, North Bethesda, Maryland 20852. Module III Fire Analysis will be held July 20-24, 2015, at the NRC in North Bethesda, Maryland. Module IV HRA will be held September 28-October 2, 2015, at the EPRI office in Charlotte, North Carolina. Module V Advanced Fire Modeling will be held August 17-21, 2015, at the NRC in North Bethesda, Maryland.

To register for the courses use the following links:

Module I—PRA

EPRI/NRC-RES Fire Probabilistic Risk Assessment Training—Module I—Probabilistic Risk Assessment

September 28-October 2, 2015—EPRI Offices, Charlotte, NC

Module II—Electrical Analysis

EPRI/NRC-RES Fire Probabilistic Risk Assessment Training—Module II—Electrical Analysis

August 24-28, 2015—NRC Offices, North Bethesda, MD

Module III—Fire Analysis

EPRI/NRC-RES Fire Probabilistic Risk Assessment Training—Module III—Fire Analysis

July 20-24, 2015—NRC Offices, North Bethesda, MD

Module IV—HRA

EPRI/NRC-RES Fire Probabilistic Risk Assessment Training—Module IV—Fire Human Reliability Analysis

September 28-October 2, 2015—EPRI Offices, Charlotte, NC

Module V—Advanced Fire Modeling

EPRI/NRC-RES Fire Probabilistic Risk Assessment Training—Module V—Advanced Fire Modeling

August 17-21, 2015—NRC Offices, North Bethesda, MD

Conduct of the Meeting

This meeting is a Category 3 meeting.* The public is invited to participate in this meeting by providing comments and asking questions throughout the meeting. Please note this workshop is being conducted in a classroom format; registration is required to ensure space availability.

* Meetings between the NRC technical staff and external stakeholders are open for interested members of the public, petitioners, interveners, or other parties to attend as observers pursuant to Commission policy statement, “Enhancing Public Participation in NRC Meetings,” 67 Federal Register 36920, May 28, 2002.

The NRC provides reasonable accommodation to individuals with disabilities where appropriate. If you need a reasonable accommodation to participate in this workshop, or need the workshop notice or agenda in another format (e.g., Braille, large print), please notify the NRC's meeting contact. Determinations on requests for reasonable accommodation will be made on a case-by-case basis.

Dated at Rockville, Maryland, this 18th day of May 2015.
For the Nuclear Regulatory Commission.
Mark Henry Salley,
Chief, Fire Research Branch, Division of Risk Analysis, Office of Nuclear Regulatory Research.

[FR Doc. 2015-12784 Filed 5-26-15; 8:45 am]

BILLING CODE 7590-01-P